POSTAL REGULATORY COMMISSION

[Docket Nos. MC2015-23 and CP2015-65; Order No. 2476]

Change in Postal Prices

AGENCY: Postal Regulatory Commission.

ACTION: Notice.

SUMMARY: The Commission is noticing a recent Postal Service filing concerning a change in prices for Global Expedited Package Services Contracts Non-Published Rates 5. This notice informs the public of the filing, invites public comment, and takes other administrative steps.

DATES: Comments are due: May 18, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On May 7, 2015, the Postal Service filed notice of a change in prices not of general applicability for Global Expedited Package Services—Non-Published Rates 5 (GEPS—NPR 5), resulting from its proposed creation of GEPS—NPR 5 Version 2 prices.¹ The Postal Service also asks that the Commission add GEPS—NPR 5 Version 2 to the GEPS—NPR 5 product grouping in the competitive product list within the Mail Classification Schedule. Notice at 9.

¹ Notice of the United States Postal Service of Change in Prices for Global Expedited Package Services—Non-Published Rates 5 (GEPS—NPR 5 Version 2) and Application for Non-Public Treatment of Materials Files Under Seal, May 7, 2015 (Notice). The Notice was filed pursuant to 39 CFR 3015.5 and Order No. 2320. See Docket Nos. MC2015-23 and CP2015-29, Order No. 2320, Order Adding Global Expedited Package Services—Non-Published Rates Contract 5 (GEPS—NPR 5) to the Competitive Product List, January 13, 2015.

To support its Notice, the Postal Service filed a copy of the GEPS-NPR 5 Version 2 model contract; a copy of the Governors' Decision authorizing the product; a set of maximum and minimum prices; a certification of compliance with 39 U.S.C. 3633(a); a copy of a related management analysis; an application for non-public treatment; and supporting financial workpapers. The Postal Service also identified the Commission docket and the Governors' Decision associated with the price changes and addressed several differences between the GEPS—NPR 5 Version 2 model contract and the original GEPS—NPR 5 model contract. Id. at 5-7.

II. Notice of Commission Action

The Commission establishes Docket Nos. MC2015-23 and CP2015-65 for consideration of matters raised by the Notice.

The Commission invites comments on whether the Postal Service's filings are consistent with the policies of 39 U.S.C. 3632, 3633, or 3642, 39 CFR 3015.5, and 39 CFR part 3020, subpart B. Comments are due no later than May 18, 2015. The public portions of these filings can be accessed via the Commission's Web site (http://www.prc.gov).

The Commission appoints Curtis Kidd to serve as Public Representative in these dockets.

III. Ordering Paragraphs

It is ordered:

1. The Commission establishes Docket Nos. MC2015-23 and CP2015-65 to consider the matters raised by the Notice.

2. Pursuant to 39 U.S.C. 505, Curtis Kidd is appointed to serve as officer of the Commission (Public Representative) to represent the interests of the general public in these proceedings.

3. Comments by interested persons in these proceedings are due no later than May 18, 2015.

4. The Secretary shall arrange for publication of this order in the Federal Register.

By the Commission.
Shoshana M. Grove,
Secretary.

[FR Doc. 2015-11684 Filed 5-14-15; 8:45 am]

BILLING CODE 7710-FW-P